DEPARTMENT OF ENERGY

Federal Energy Regulatory Commission

[Docket No. CP08-63-000]

Tennessee Gas Pipeline Company; Notice of Intent To Prepare an Environmental Assessment for the Proposed Fitchburg Expansion Project, Request for Comments on Environmental Issues, and Notice of Site Visit

February 22, 2008.

The staff of the Federal Energy Regulatory Commission (FERC or Commission) will prepare an environmental assessment (EA) that will discuss the potential environmental impacts of the Fitchburg Expansion Project involving construction and operation of natural gas pipeline facilities by Tennessee Gas Pipeline Company (Tennessee) in Worcester and Middlesex Counties, Massachusetts. The EA will be used by the Commission in its decision-making process to determine whether the project is in the public convenience and necessity.

This notice announces the opening of the scoping process the Commission will use to gather input from the public and interested agencies on the project. Your input will help determine which issues need to be evaluated in the EA. Please note that the scoping period will close on March 24, 2008. Details on how to submit comments are provided in the Public Participation section of this notice.

This notice is being sent to affected landowners; federal, state, and local government agencies; elected officials; Native American tribes; other interested parties; and local libraries and newspapers. State and local government representatives are asked to notify their constituents of this proposed project and to encourage them to comment on their areas of concern.

A fact sheet prepared by the FERC entitled “An Interstate Natural Gas Facility On My Land? What Do I Need To Know?” addresses a number of typically asked questions, including the use of eminent domain and how to participate in the Commission's proceedings. It is available for viewing on the FERC Internet Web site (http://www.ferc.gov).

Summary of the Proposed Project

Tennessee's Fitchburg Expansion Project would increase the size of a portion of its Fitchburg Lateral and install some minor facilities in order to provide 12,300 dekatherms per day of firm transportation service for the Massachusetts Development Financial Agency. To accomplish this, Tennessee proposes to:

• Replace approximately 5.15 miles of 6-inch-diameter pipeline with 12-inch-diameter pipeline on Tennessee's Line 268-100 (Fitchburg Lateral) in Worcester County, Massachusetts;

• Install a pig ¹ launcher at the existing mainline valve at the beginning of the Fitchburg Lateral in Framingham, Massachusetts; and

¹ A pig is an internal tool that can be used to clean and/or inspect a pipeline for damage or corrosion. A pig launcher/receiver is an aboveground facility where pigs are inserted into and or retrieved from the pipeline.

• Install a pig receiver at the existing Unitil Meter Station at the terminus of the Fitchburg Lateral (milepost 5.13) in Lunenburg, Massachusetts.

The general location of the proposed facilities is shown in appendix 1.²

² The appendices referenced in this notice are not being printed in the Federal Register. Copies of all appendices are available on the Commission's Web site (http://www.ferc.gov) at the “eLibrary” link or from the Commission's Public Reference Room, 888 First Street, NE., Washington, DC 20426, or call (202) 502-8371. For instructions on connecting to eLibrary, refer to the “Additional Information” section of this notice. Copies of the appendices were sent to all those receiving this notice in the mail. Requests for detailed maps of the proposed facilities should be made directly to Tennessee.

Land Requirements for Construction

Tennessee proposes to utilize a 70-to 80-foot-wide construction right-of-way. This includes the existing permanent right-of-way that varies between 20 and 30 feet, which would continue to be maintained after construction. A total of 55.19 acres would be affected during construction and 15.95 acres would be affected during operation. The pig launcher and receiver would be constructed adjacent to existing Tennessee aboveground structures.

The EA Process

We ³ are preparing this EA to comply with the National Environmental Policy Act of 1969 (NEPA), which requires the Commission to take into account the environmental impact that could result if it authorizes Tennessee's proposal. By this notice, we are also asking federal, state, and local agencies with jurisdiction and/or special expertise with respect to environmental issues to formally cooperate with us in the preparation of the EA. Agencies that would like to request cooperating status should follow the instructions for filing comments provided below.

³ ”We”, “us”, and “our” refer to the environmental staff of the FERC's Office of Energy Projects.

NEPA also requires the FERC to discover and address concerns the public may have about proposals. This process is referred to as “scoping.” The main goal of the scoping process is to focus the analysis in the EA on important environmental issues. By this Notice, we are requesting public comments on the scope of the issues to address in the EA. All comments received are considered during the preparation of the EA.

The EA will discuss impacts that could occur as a result of the construction and operation of the proposed project under these general headings:

• Geology and soils.

• Land use and visual quality.

• Cultural resources.

• Vegetation and wildlife (including threatened and endangered species).

• Air quality and noise.

• Reliability and safety.

We will also evaluate possible alternatives to the proposed project or portions of the project, where necessary, and make recommendations on how to lessen or avoid impacts on the various resource areas.

Our independent analysis of the issues will be presented in the EA. Depending on the comments received during the scoping process, the EA may be published and mailed to federal, state, and local agencies; public interest groups; interested individuals; affected landowners; local libraries and newspapers; and the Commission's official service list for this proceeding. A comment period will be allotted for review if the EA is published. We will consider all comments on the EA before we make our recommendations to the Commission.

To ensure your comments are considered, please carefully follow the instructions in the Public Participation section below.

Public Participation

You can make a difference by providing us with your specific comments or concerns about the project. By becoming a commentor, your concerns will be addressed in the EA and considered by the Commission. You should focus on the potential environmental effects of the proposal, alternatives to the proposal including alternative pipeline routes, and measures to avoid or lessen environmental impact. The more specific your comments, the more useful they will be. Please carefully follow these instructions to ensure that your comments are received in time and properly recorded:

• Send an original and two copies of your letter to: Kimberley D. Bose, Secretary, Federal Energy Regulatory Commission, 888 First St., NE., Room 1A, Washington, DC 20426.

• Label one copy of the comments for the attention of Gas Branch 1, PJ-11.1;

• Reference Docket No. CP08-63-000; and

• Mail your comments so that they will be received in Washington, DC on or before March 24, 2008.

The Commission encourages electronic filing of comments. See Title 18 of the Code of Federal Regulations, Part 385.2001(a)(1)(iii) and the instructions on the Commission's Internet Web site at http://www.ferc.gov under the “eFiling” link and the link to the User's Guide. Prepare your submission in the same manner as you would if filing on paper and save it to a file on your hard drive. Before you can file comments you will need to create an account by clicking on “Login to File” and then “New User Account.” You will be asked to select the type of filing you are making. This filing is considered a “Comment on Filing.”

Becoming an Intervenor

In addition to involvement in the scoping process, you may want to become an official party to the proceeding known as an “intervenor.” Intervenors play a more formal role in the Commission's process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding. If you want to become an intervenor, you must file a motion to intervene according to Rule 214 of the Commission's Rules of Practice and Procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Site Visit

On April 1, 2008, the Office of Energy Projects' (OEP) staff will conduct a pre-certification site visit of the proposed Fitchburg Expansion Project. We will view Tennessee's proposed pipeline route, route variations, and aboveground facilities that are being considered for the proposed project. Staff will tour the proposed project area by automobile and on foot. Representatives of Tennessee will accompany the OEP staff.

All interested parties may attend the site visit. Those planning to attend must provide their own transportation. If you are interested in attending the site visit, please meet us at 9 a.m. in the parking lot of the Target at 86 Orchard Hill Park Drive, Leominster, MA.

For additional information, please contact the Commission's Office of External Affairs at 1-866-208-FERC (3372).

Environmental Mailing List

As described above, we may mail the EA for comment. If you are interested in receiving an EA for review and/or comment, please return the Environmental Mailing List Mailer (appendix 3). If you do not return the Environmental Mailing List Mailer, you will be taken off the mailing list. All individuals who provide written comments will remain on our environmental mailing list for this project.

Additional Information

Additional information about the project is available from the Commission's Office of External Affairs, at 1-866-208-FERC or on the FERC Internet Web site (http://www.ferc.gov) using the “eLibrary” link. Click on the eLibrary link, then on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Kimberly D. Bose,
Secretary.

[FR Doc. E8-3763 Filed 2-27-08; 8:45 am]

BILLING CODE 6717-01-P